DEPARTMENT OF HEALTH AND HUMAN SERVICES

Administration for Community Living

Agency Information Collection Activities; Submission for OMB Review; Public Comment Request; State Health Insurance Assistance Program Annual Sub-Recipients Report OMB Control Number 0985-0070

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the proposed extension without change for the information collection requirements related to State Health Insurance Assistance Program Annual Sub-Recipients Report OMB Control Number 0985-0070.

DATES: Comments on the collection of information must be submitted electronically by 11:59 p.m. (EST) or postmarked by January 29, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Margaret Flowers, Administration for Community Living, Margaret.Flowers@acl.hhs.gov, (202) 795-7315.

SUPPLEMENTARY INFORMATION: In compliance with the Paperwork Reduction Act, the Administration for Community Living (ACL) has submitted the following proposed collection of information to OMB for review and clearance. This information collection gathers the amount of federal funds provided annually to each State Health Insurance Assistance Program (SHIP) sub-contractor and sub-grantee that are delivering SHIP services.

Congress requires this data collection for program monitoring of the SHIP under the Bipartisan Budget Act of 2018. Collection of this data allows ACL to communicate with Congress and the public on the SHIP network of agencies. The data collected is electronically posted on the ACL website to educate the network on who the SHIP state sub-recipients are and how much money they are receiving.

Comments in Response to the 60-Day Federal Register Notice

A 60-day FRN published in the FR on October 24, 2023, at 88 FR 73030. There were no public comments received during the 60-day FRN comment period.

Estimated Program Burden: ACL estimates the respondent burden hours to prepare and complete all reports associated with this collection of information as follows:

Respondent/data collection activity | Number of respondents | Responses per respondent | Hours per response | Annual burden hours
| 54 | 1 | 1 | 54
Total | 54 | 1 | 1 | 54

Dated: December 21, 2023.
Alison Barkoff,
Principal Deputy Administrator for the Administration for Community Living, Performing the Delegable Duties of the Administrator and the Assistant Secretary for Aging.

[FR Doc. 2023-28579 Filed 12-27-23; 8:45 am]

BILLING CODE 4154-01-P